DEPARTMENT OF COMMERCE

National Oceanic and Atmospheric Administration

RIN 0648-XA055

Gulf of Mexico Fishery Management Council; Public Meeting

AGENCY: National Marine Fisheries Service (NMFS), National Oceanic and Atmospheric Administration (NOAA), Commerce.

ACTION: Council to convene a public meeting.

SUMMARY: The Gulf of Mexico Fishery Management Council (Council) will convene a meeting of the Standing and Special Reef Fish Scientific and Statistical Committees.

DATES: The meeting will convene at 9 a.m. on Monday, December 13, 2010 and conclude by 3 p.m. on Wednesday, December 15, 2010.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Committee will meet to discuss attendance issues and problems with achieving a quorum, plus review several issues related to development of the generic annual catch limit/accountability measures amendment. These issues include a review of the latest version of the draft acceptable biological catch control rule, and a discussion on the use of judgment calls and use of mean catch to define the overfishing limit when setting the acceptable biological catch for data poor species. The Committee will also review the use of in-season accountability measures as part of a system of accountability measures for sectors that exceed their annual catch limits, and proposed revisions to species groupings to be used in setting annual catch limits. Finally, the Committee will make recommendations for acceptable biological catch, and overfishing limit if necessary, for all stocks in the generic annual catch limit/accountability measures amendment that are still in need of such recommendations.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Trish Kennedy at the Council (see ADDRESSES) at least 5 working days prior to the meeting.

Dated: November 19, 2010.
Tracey L. Thompson,
Acting Director, Office of Sustainable Fisheries, National Marine Fisheries Service.

[FR Doc. 2010-29690 Filed 11-24-10; 8:45 am]

BILLING CODE 3510-22-P